DEPARTMENT OF TRANSPORTATION

Federal Highway Administration

Environmental Impact Statement; Houma-Thibodaux to LA 3127 Connection; Terrebonne, Lafourche, Assumption, St. James, St. John the Baptist, St. Charles, and St. Mary Parishes, LA

AGENCY: Federal Highway Administration (FHWA), DOT.

ACTION: Revised Notice of intent.

SUMMARY: The FHWA is issuing this Revised Notice of Intent (NOI) to advise the public and interested agencies of modifications to the scope and environmental review process for the Houma-Thibodaux to LA 3127 Connection Environmental Impact Statement (EIS). The project study area has been expanded due to resource agency concerns to include a potential alternative to the west in the vicinity of the LA 1 and LA 308 corridor to the Sunshine Bridge. FHWA also intends to utilize the environmental review provisions afforded under Section 6002 of the Safe, Accountable, Flexible, and Efficient Transportation Equity Act: A Legacy for Users (SAFETEA-LU). The EIS will build upon the environmental and technical studies and public comments and outreach conducted to date. This NOI revises the NOI that was published in the Federal Register on June 7, 2004.

FOR FURTHER INFORMATION CONTACT: Carl M. Highsmith, Project Delivery Team Leader, Federal Highway Administration, 5304 Flanders Drive, Suite A, Baton Rouge, Louisiana 70808, Telephone 225-757-7615; Facsimile: (225) 757-7601 or Noel Ardoin, Environmental Engineer Administrator, Louisiana Department of Transportation and Development, PO Box 94245, Baton Rouge, Louisiana 70804, Telephone: (225) 242-4501; Facsimile: (225) 242-4500. Please refer to project designation numbers State Project No. 700-99-0302 & Federal Aid Project No. HP-9902(518) in any correspondence.

SUPPLEMENTARY INFORMATION: The FHWA, in cooperation with the Louisiana Department of Transportation and Development (LADOTD), will prepare an Environmental Impact Statement (EIS) on a proposal to provide a functional north-south transportation link between the Houma-Thibodaux area and LA 3127 and to provide more direct access to I-10 to the north and future I-49 to the south. The proposed link would also serve as a hurricane evacuation route. The original NOI for this project was published in the Federal Register: June 7, 2004 (Volume 69, Number 109). Subsequent to scoping meetings and a public meeting that occurred after the original NOI, the project area was expanded west to address resource agency concerns. An additional alternatives screening study, which analyzed potential alternatives traversing the Bayou Lafourche Ridge, was conducted with the input of the public and resource agencies. As a result of the recommendations of the study, the project scope was revised to include an alternative within the expanded study area. Coordination with the resource agencies and the public will be conducted in early March 2010 to notify them that the project has restarted and to advise them that additional coordination will occur during the development of the reasonable range of alternatives for the project. In addition, previous studies conducted for the project are being updated.

Letters describing this proposal and soliciting comments will be sent to appropriate Federal, State, and local agencies and to private organizations and individuals that have previously expressed, or are known to have, an interest in this proposal. A series of agency and public meetings as well as a public hearing will be held. Public notice will be given of the time and place of the meetings and hearing. The draft EIS will be available for public and agency review and comment prior to the public hearing.To ensure that the full range of issues related to this proposed action is addressed, and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on March 10, 2010.
Charles “Wes” Bolinger,
Division Administrator, FHWA, Baton Rouge, Louisiana.

[FR Doc. 2010-6536 Filed 3-24-10; 8:45 am]

BILLING CODE 4910-22-P